DEPARTMENT OF ENERGY

Federal Energy Regulatory Commission

[Docket No. EL05-115-000]

Xcel Energy Services Inc., Northern States Power Company and Northern States Power Company (Wisconsin), Public Service Company of Colorado and Southwestern Public Service Company; Notice of Institution of Proceeding and Refund Effective Date

June 6, 2005.

On June 2, 2005, the Commission issued an order that instituted a proceeding in Docket No. EL05-115-000, pursuant to section 206 of the Federal Power Act (FPA), 16 U.S.C. 824e, to determine the justness and reasonableness of the market-based rates charged by Xcel Energy Services Inc. (XES), Public Service Company of Colorado (PSCo), and Southwestern Public Service Company's (SPS) (collectively, Xcel) in the SPS and PSCo control areas, and whether Xcel satisfies the Commission's concerns with regard to affiliate abuse. Xcel Energy Services, Inc., et al., 111 FERC ¶ 61,343 (2005).

The refund effective date in Docket No. EL05-115-000, established pursuant to section 206(b) of the FPA, will be 60 days from the date of publication of this notice in the Federal Register.

Magalie R. Salas,
Secretary.

[FR Doc. E5-3022 Filed 6-10-05; 8:45 am]

BILLING CODE 6717-01-P